DEPARTMENT OF HEALTH AND HUMAN SERVICES

Administration for Children and Families

Submission for OMB review; comment request

Title: Child and Family Services Plan, Annual Progress and Services Report, and Budget Request

OMB No.: 0980-0047

Description: Under title IV-B, subparts 1 and 2, of the Social Security Act, States and Indian Tribes are to submit a five year Child and Family Services Plan, an Annual Progress and Services Report (APSR), and an annual budget request and estimated expenditure report (CFS-101). The plan is used by States and Indian Tribes to develop and implement services, and describe coordination efforts with other Federal, state and local programs. The APSR is used to provide updates and changes in the goals and services under the five year plan. The CFS-101 will be submitted annually with the APSR to apply for appropriated funds for the next fiscal year. The CFSP also includes the required State plans under Section 106 of the Child Abuse Prevention and Treatment Act and section 477 of title IV-E, the Chafee Foster Care Independence Program.

Respondents: 300

Annual Burden Estimates:

Instrument | Number of respondent | Number of responses per respondent | Average burden hours per response | Total burden hours
CFSP | 300 | 1 | 500 | 150,000/5 = 30,000
APSR | 300 | 1 | 270 | 81,000
CFS101 | 300 | 1 | 5 | 1,500
Estimated Total Annual Burden Hours: |  |  |  | 112,500

Additional Information: Copies of the proposed collection may be obtained by writing to the Administration for Children and Families, Office of Information Services, 470 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: May 29, 2002.
Bob Sargis,
Reports Clearance Officer.

[FR Doc. 02-13880 Filed 6-3-02; 8:45 am]

BILLING CODE 4104-01-M